DEPARTMENT OF HEALTH AND HUMAN SERVICES

Centers for Disease Control and Prevention

Disease, Disability, and Injury Prevention and Control Special Emphasis Panel: Establishing a Surveillance System for Chronic Kidney Disease in the U.S., Program Announcement PEP 2006-R-08

Correction: This notice was published in the Federal Register on April 10, 2006, Volume 71, Number 68, page 18102. The matters to be discussed during the Special Emphasis Panel meeting have been changed.

Matters to be Discussed: To conduct an expert review of the scientific and technical merit of research proposals in response to the development of a comprehensive national kidney disease surveillance system that will capture and track all manifestations of Chronic Kidney Disease in the general population.

FOR FURTHER INFORMATION CONTACT: Felix Rogers, PhD, M.P.H., Scientific Review Administrator, CDC, 1600 Clifton Road, NE., Mailstop E-05, Atlanta, GA 30333, Telephone Number 404.639.6101, e-mail fxr3@cdc.gov.

The Director, Management Analysis and Services Office, has been delegated the authority to sign Federal Register notices pertaining to announcements of meetings and other committee management activities, for both CDC and the Agency for Toxic Substances and Disease Registry.

Dated: April 14, 2006.
Alvin Hall,
Director, Management Analysis and Services Office, Centers for Disease Control and Prevention.

[FR Doc. E6-5928 Filed 4-19-06; 8:45 am]

BILLING CODE 4163-18-P